DEPARTMENT OF TRANSPORTATION

National Highway Traffic Safety Administration

[Docket No. NHTSA-99-6685; Notice 2]

General Motors Corporation, Grant of Application for Decision of Inconsequential Noncompliance

General Motors Corporation (GM) has determined that certain 1999 Chevrolet vehicles are not in compliance with Federal Motor Vehicle Safety Standard (FMVSS) No. 120, “Tire selection and rims for motor vehicles other than passenger cars” and 49 CFR Part 567, “Certification” and has filed an appropriate report pursuant to 49 CFR Part 573, “Defect and Noncompliance Reports.” GM has also applied to be exempted from the notification and remedy requirements of 49 U.S.C. Chapter 301—“Motor Vehicle Safety” on the basis that the noncompliance is inconsequential to motor vehicle safety.

Notice of receipt of the application was published, with a 30-day comment period, on January 19, 2000, in the Federal Register (65 FR 3004). NHTSA received no comments.

The purpose of FMVSS No. 120 according to S2 is “to provide safe operational performance of vehicles by ensuring that vehicles to which it applies are equipped with tires of adequate size and load rating, and rims of appropriate size and type designation.” Paragraph S5.2 of FMVSS No. 120 requires that each rim be marked with specific information, including the rim size designation which indicates the source of the rim's published nominal dimensions, and the rim size designation. For example: “20 x 5.50,″ or “20 x 5.5.”

Between March 1, 1999, and March 13, 1999, GM produced 5,079 Chevrolet Blazers and Chevrolet S-10 pickup trucks, some of which may be equipped with one or more than one of the 1,658 wheels that are missing the width designation in the rim marking on the back side of the wheel. In the original petition, GM stated that this missing data affected 11,522 vehicles; however, on March 6, 2000, the agency received a follow-up letter from GM stating that only 5,079 vehicles may be affected. GM's wheel supplier, Reynolds-Rualca, Venezuala, produced 3,721 wheels that had an error in the rim size designation. Instead of the correct rim size designation of “15 x 7,” these wheels have a rim size designation of “15 x .” The error occurred when one of the wheel casting molds was refurbished. Of the 3,721 mis-marked wheels produced, 2,063 were located and correctly stamped with the missing rim width. The remaining 1,658 wheels were installed on the Chevrolet vehicles. The rim markings other than the rim width designation were not affected by the refurbishing error, and the remainder of the rim marking information, including rim diameter, is correct on all of the 1,658 wheels.

GM supports its application for inconsequential noncompliance by stating the following:

1. “The tire and rim of the affected wheels are properly matched, and are appropriate for the load-carrying characteristics of these vehicles. The lack of complete marking has no effect on the performance of the tire/rim combination of the subject vehicles.”

2. “These vehicles have a placard on the left front door that contains the correct and complete tire and rim sizes installed on these vehicles. The placard on the subject vehicles shows rim size completely and correctly as 15x7J.”

3. “The owner's manual provided with these vehicles contains a section ‘Buying New Tires.’ The text of this section advises the customer that they should look at the Certification/Tire Label to find out what kind and size of tires they need. It goes on to tell them that they should get new tires with the same Tire Performance Criteria Specification (TPC Spec) that the vehicle came with, and that they can find the TPC number on each tire's sidewall. Finally it advises them that if they were to replace the tires with those not having the TPC Spec number found on the original equipment tires, they should make sure that the tires they choose are the same size, load range, speed rating and construction type as the original tires. Nowhere are customers told to look at the wheel to determine the appropriate tire.”

4. “General Motors believes that very few of these wheels will ever have to be replaced over the life of the vehicle. Nevertheless, the owner's manual provided with these vehicles contains a section ‘Wheel Replacement.’ This section states that each new wheel should have the same load-carrying, diameter, width, offset and be mounted in the same way as the one it replaces. It also advises customers that their dealer will know the kind of wheel they need. The wheels at issue here are not marked with an incorrect width. Rather, they have no width marking. Therefore a dealer would not be misled by a width marking on the wheel, but would look at the placard if they were not aware of the exact width.”

5. “If a customer needs to replace a tire or a wheel, he/she is likely to go to a tire/wheel store, or a vehicle dealer. The skilled personnel at any of these places know how to determine the correct tire or wheel size that they are replacing. For the tire replacement, it is highly probable that they will first look at the tire sidewall to determine the replacement tire size. They also know that the information exists on the placard and may look at the placard. For the wheel replacement, they may look at the tire placard or at the wheel itself to determine the replacement size. The subject wheels do not give incorrect information, however the information is incomplete. Since the information on the wheel is incomplete, the person looking at it will look elsewhere to find the missing information prior to selecting replacement wheel or tire size. For the correct tire selection, rim diameter is of primary importance, and the tire diameter must be the same as the rim diameter. The information on the subject wheels does contain the correct rim diameter, i.e., 15.”

The purpose for the rim marking requirements in FMVSS No. 120 is to provide the owner with permanent rim size and type designation information necessary to ensure proper selection and matching of rims and tires. Without proper labeling, an individual vehicle user cannot readily determine the proper size tire for the rim and the vehicle. Without this required information displayed on the rim, a tire too large or small for the rim could be mounted, resulting in a failure. If the load carrying capabilities of the wheel cannot be readily determined, then the possibility of overloading exists.

In this case, the rims have an incomplete marking, so the individual will have to rely on another source for the correct rim size. The most likely sources for the rim size information are the tire placard on the vehicle, the vehicle owner's manual, or a dealer. The placard in these vehicles shows the rim size correctly at 15 x7J. The owner's manual for these vehicles states that a new wheel should have the same load-carrying, diameter, width, offset and be mounted in the same way as the one it replaces. It also advises customers that their dealer will know the kind of wheel they need. It is extremely unlikely that dealers would attempt to rely on rim markings to determine the appropriate tire or rim sizes.

According to GM, the processes have been extensively reviewed, the causes of these noncompliances have been isolated, and changes in the processes have been instituted to prevent any future occurrences. In addition, the noncompliance is limited to the vehicles addressed in this notice, and GM stated that its future products will comply with the requirements of FMVSS No. 120.

In consideration of the foregoing, NHTSA has decided that the applicant has met its burden of persuasion that the noncompliance it describes is inconsequential to motor vehicle safety. Accordingly, GM's application is granted, and it is exempted from the duty of providing notification of, and a remedy for, the noncompliance.

(49 U.S.C. 30118, delegations of authority at 49 CFR 1.50 and 501.8).
Issued on: June 28, 2000.
Stephen R. Kratzke,
Associate Administrator for Safety Performance Standards.

[FR Doc. 00-16890 Filed 7-4-00; 8:45 am]

BILLING CODE 4910-59-U